DEPARTMENT OF COMMERCE

Patent and Trademark Office

37 CFR Part 42

[Docket No. PTO-P-2025-0025]

RIN 0651-AD89

Revision to Rules of Practice Before the Patent Trial and Appeal Board

AGENCY: United States Patent and Trademark Office, Department of Commerce.

ACTION: Notice of proposed rulemaking; extension of comment period.

SUMMARY: The United States Patent and Trademark Office (USPTO) is extending the comment period for the proposed rule titled “Revision to Rules of Practice before the Patent Trial and Appeal Board” that was published in the Federal Register on October 17, 2025. The proposed rule's comment period is extended until December 2, 2025.

DATES: The comment period for the proposed rule published on October 17, 2025 at 90 FR 48342 is extended until December 2, 2025. The USPTO does not anticipate granting further extensions to the comment period. This extension for the current proposed rule does not imply the USPTO will grant extensions for any future proposed rules.

ADDRESSES: For reasons of Government efficiency, comments must be submitted through the Federal eRulemaking Portal at: https://www.regulations.gov. To submit comments via the portal, one should enter docket number PTO-P-2025-0025 on the homepage and select the “Search” button. The site will provide search results listing all documents associated with this docket. Commenters can find a reference to this notice and select the “Comment” button, complete the required fields, and enter or attach their comments. Attachments to electronic comments will be accepted in Adobe® portable document format (PDF) or Microsoft Word® format. Because comments will be made available for public inspection, information that the submitter does not desire to make public, such as an address or phone number, should not be included in the comments.

Visit the Federal eRulemaking Portal for additional instructions on providing comments via the portal. If electronic submission of, or access to, comments is not feasible due to a lack of access to a computer and/or the internet, please contact the USPTO using the contact information below for special instructions.

FOR FURTHER INFORMATION CONTACT: Sharon Israel, Vice Chief Administrative Patent Judge, PTAB at 571-272-9797.

SUPPLEMENTARY INFORMATION: On October 17, 2025, the USPTO published a proposed rule titled “Revision to Rules of Practice before the Patent Trial and Appeal Board” that proposed modifications to the rules of practice for inter partes review (IPR) before the Patent Trial and Appeal Board (PTAB or Board) that the Under Secretary of Commerce for Intellectual Property and Director of USPTO and, by delegation, the PTAB will use in instituting IPR. See 90 FR 48342. The USPTO is extending the written comment period until December 2, 2025, to ensure that all stakeholders have a sufficient opportunity to submit comments on the proposed revisions. Any comments for the USPTO's consideration must be tailored to be responsive to this proposed rule. Commenters should not incorporate by reference comments submitted in response to prior rulemakings.

The USPTO does not anticipate granting further extensions to the comment period. This extension for the current proposed rule does not imply the USPTO will grant extensions for any future proposed rules.

John A. Squires,
Under Secretary of Commerce for Intellectual Property and Director of the United States Patent and Trademark Office.

[FR Doc. 2025-19817 Filed 11-6-25; 8:45 am]

BILLING CODE 3510-16-P